DEPARTMENT OF ENERGY

Federal Energy Regulatory Commission

[Docket No. CP23-544-000]

Northern Border Pipeline Company; Notice of Schedule for the Preparation of an Environmental Assessment for the Bison Xpress Project

On September 15, 2023, Northern Border Pipeline Company (Northern Border) filed an application in Docket No. CP23-544-000 requesting authorization and a Certificate of Public Convenience and Necessity under sections 7(b) and 7(c) of the Natural Gas Act and part 157 of the Commission's regulations to construct and operate certain natural gas pipeline facilities located in McKenzie, Dunn, and Morton Counties, North Dakota. The proposed project is known as the Bison XPress Project (Project) and would create 300,000 dekatherms per day (Dth/d) of incremental mainline capacity to Northern Border's interconnection with Bison Pipeline, LLC. Northern Border would abandon the capacity by lease to Wyoming Interstate Company, LLC.

On October 2, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA April 8, 2024

90-day Federal Authorization Decision Deadline ² July 7, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Northern Border's proposed Bison XPress Project consists of the replacement and expansion of compression facilities at Northern Border's existing compressor stations including Arnegard (No. 4) in McKenzie County, North Dakota; Manning (No. 5) in Dunn County, North Dakota; and Glen Ullin (No. 6) in Morton County, North Dakota. Upon completion, the Bison XPress Project would (a) replace and expand existing compressor facilities with new, more modern and efficient compression facilities; (b) create 300,000 Dth/d of incremental mainline natural gas capacity from receipt points between Northern Border's Culbertson Compressor Station and Glen Ullin Compressor Station to its interconnection with Bison Pipeline, LLC in Morton County, North Dakota (Kurtz Delivery Point); and (c) introduce standby horsepower on Northern Border's system. Northern Border plans to abandon 100 percent of the capacity by lease to Wyoming Interstate Company, LLC. Applications by Bison Pipeline, LLC (Docket No. CP23-543-000) and Wyoming Interstate Company, LLC and Fort Union Gas Gathering, LLC (Docket No. CP23-545-000) are associated projects being evaluated under the applicable Commission regulations.

Background

On October 30, 2023, the Commission issued a Notice of Scoping Period Requesting Comments on Environmental Issues for the Proposed Bison Express Project (Notice of Scoping). The Notice of Scoping was sent to affected landowners; federal, state, and local government agencies; elected officials; environmental and public interest groups; Native American tribes; other interested parties; and local libraries and newspapers. The Commission has currently received 23 comments from environmental organizations, two Dunn County representatives, two North Dakota State Senators, the North Dakota Petroleum Council, the North Dakota Chamber of Commerce, North Dakota Board of Commissioners for Mackenzie, Morton, and Dunn Counties, North Dakota Industrial Commission, the Western Dakota Energy Association, community organizations, local business owners, a healthcare center, the Northern Border Shipper Group (collectively, Tenaska Marketing Ventures and Twin Eagle Resource Management, LLC), the Indicated Shippers (collectively, bp Energy Company, ConocoPhillips Company, and Shell Energy North America, L.P), the Canadian Association of Petroleum Producers (CAPP). The majority of comments (20) were in support of the Project. The primary issues filed by the Indicated Shippers, the Northern Border Shipper Group, and CAPP raised concerns with the treatment of the rates, costs, and proposed capacity leases associated with the Project and the related applications filed by Bison Pipeline, LLC (Docket No. CP23-543-000) and Wyoming Interstate Company, LLC and Fort Union Gas Gathering, LLC (Docket No. CP23-545-000). All substantive environmental comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-544), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 15, 2023.
Kimberly D. Bose,
Secretary.

[FR Doc. 2023-25707 Filed 11-20-23; 8:45 am]

BILLING CODE 6717-01-P